DEPARTMENT OF AGRICULTURE

Foreign Agricultural Service

Notice of Intent To Renew Agricultural Policy Advisory Committee (APAC) and the Related Agricultural Technical Advisory Committees (ATACs) for Trade and Continuation of Requests for Nominations for the Agricultural Trade Advisory Committees

AGENCY: Foreign Agricultural Service, United States Department of Agriculture.

ACTION: Notice of rechartering and continuation of requests for nominations.

SUMMARY: Pursuant to section 135 of the Trade Act of 1974 and the Federal Advisory Committee Act, as amended, notice is hereby given that the Secretary of Agriculture (Secretary), in coordination with the United States Trade Representative (Trade Representative or USTR), intends to renew the Agricultural Policy Advisory Committee (APAC) and the related Agricultural Technical Advisory Committees (ATACs) for Trade to provide detailed policy and technical advice, information, and recommendations regarding trade barriers, negotiation of trade agreements, and implementation of existing trade agreements affecting food and agricultural products, including the performance of other advisory functions relevant to U.S. agricultural trade policy matters. The establishment and renewal of such committees is in the public interest in connection with the duties of United States Department of Agriculture (USDA) imposed by the Trade Act of 1974, as amended. In addition, the Foreign Agricultural Service (FAS) continues to welcome nominations for persons to serve on APAC and ATACs.

DATES: We will accept nominations for membership on the APAC and six ATACs throughout the four-year charter term of the committees (June 2023 through June 2027). New applicants are considered approximately every 12-18 months.

ADDRESSES: Electronic copies of the nomination materials should be sent to ATACs@usda.gov.

All nomination materials may also be mailed in a single, complete package to: Office of the Secretary, U.S. Department of Agriculture, 1400 Independence Ave. SW, Room 200A, Jamie L. Whitten Building, Washington, DC 20250-1001, Attn: APAC/ATACs.

FOR FURTHER INFORMATION CONTACT: Darlene Maginnis, Group Federal Officer, Foreign Agricultural Service, U.S. Department of Agriculture at 202-868-7059; or by email at ATACs@usda.gov. You can find additional information about the APAC and ATACs on the Foreign Agricultural Service website at www.fas.usda.gov/atacs.

SUPPLEMENTARY INFORMATION:

Rechartering of Existing Committees: Pursuant to the Federal Advisory Committee Act (5 U.S.C. 10), FAS gives notice that the Secretary and Trade Representative intends to renew the APAC and the following six ATACs:

• Animals and Animal Products;

• Fruits and Vegetables;

• Grains, Feed, Oilseeds, and Planting Seeds;

• Processed Foods;

• Sweeteners and Sweetener Products; and,

• Tobacco, Cotton, Peanuts and Hemp (newly revised title).

In 1974, Congress established a private sector advisory committee system to ensure that U.S. trade policy and negotiation objectives adequately reflect U.S. commercial and economic interests. The private sector advisory committee system currently consists of three tiers:

• The President's Advisory Committee for Trade Policy and Negotiations;

• Five general policy advisory committees, including the APAC; and,

• Several technical advisory committees, including the ATACs.

Background

In 1974, Congress established a private-sector advisory committee system to ensure that U.S. trade policy and negotiation objectives adequately reflect U.S. commercial and economic interests.

As provided for in the law and their charters, the APAC has the following responsibilities:

(A) The Committee will advise, consult with, and make recommendations to the Secretary and Trade Representative concerning the trade policy of the United States and the matters arising in the administration of such policy; (B) The Committee will provide information and advice regarding the following: negotiating objectives and bargaining positions of the United States before the United States enters into trade agreements, the operation of any trade agreement once entered into, and matters arising in connection with the administration of the trade policy of the United States; and (C) The Committee will furnish such other advisory opinions and reports as the Secretary and Trade Representative deem necessary; and the ATACs have similar responsibilities:

General Committee Information

Each committee has a chairperson, who is elected from the membership of that committee. Committees meet as needed, and all committee meetings are typically held in Washington, DC, or by telephone conference. Committee meetings may be closed if USTR determines that a committee will be discussing issues that justify closing a meeting or portions of a meeting, in accordance with 19 U.S.C. 2155(f).

Throughout the year, members are requested to review sensitive trade policy information and provide comments regarding trade negotiations. In addition to their other advisory responsibilities, at the conclusion of negotiations of any trade agreement, all committees are required to provide a report on each agreement to the President, Congress, USTR, and USDA.

Committee Membership Information

All committee members are appointed by and serve at the discretion of the Secretary and Trade Representative. Committee appointments are typically for a period of four years but may be renewed for an additional term. Each committee member must be a U.S. citizen and must represent a U.S. entity with an interest in agricultural trade and must not be registered with the Department of Justice under the Foreign Agents Registration Act. To attend most meetings, committee members must have a current security clearance. New members will be guided in how to apply for a security clearance and their appointment will be contingent on successful completion of the investigation. Committee members serve without compensation and are not reimbursed for their travel expenses. No person may serve on more than one USDA advisory committee at the same time unless a specific exception is granted by the USDA Committee Management Officer. No entity may have more than one representative on any single trade advisory committee.

Nominations and Appointments of Members

Eligibility: Nominations for APAC and ATAC membership are open to individuals representing U.S. entities with an interest in agricultural trade without regard to race, color, religion, sex, national origin, age, mental or physical handicap, marital status, or sexual orientation. Equal opportunity practices in accordance with U.S. Government policies will be followed in all appointments to the Committee. To ensure that the recommendations of the Committee take into account the needs of the diverse groups served by USDA, membership shall include to the extent possible, individuals with demonstrated ability to represent minorities, women, and persons with disabilities. Members should have expertise and knowledge of agricultural trade as it relates to policy and commodity specific issues. Members will normally come from an entity with an interest in agriculture, and will serve as a Representative, presenting the views and interests of a particular U.S. entity that has an interest in the subject matter of the committee.

However, should a member be appointed primarily for his or her expertise, and not as a representative of an interest group, he or she shall be designated as a Special Government Employee (SGE). SGEs are subject to specific provisions of the ethics laws, including disclosure of financial interests, if they are appointed because of their personal knowledge, background, or expertise. USDA will assist SGEs in disclosing their financial interest and will provide ethics training on an annual basis.

Appointments are made of individuals only and are not transferrable. No person, company, producer, farm organization, trade association, or other entity has a right to membership on a committee. In making appointments, every effort will be made to maintain balanced representation on the committees with representation from producers, farm and commodity organizations, processors, traders, and consumers. Geographical diversity on each committee will also be sought.

Nominations: Nominating a person to serve on any of the committees requires submission of a current resume for the nominee and the USDA AD-755 (Advisory Committee Membership Background Information, OMB Number 0505-0001), available on the internet at: https://www.fas.usda.gov/trade-advisorycommittees-applying-membership. A cover letter should also be submitted indicating the specific committee for which the individual is being nominated, why the nominee wants to be a committee member, and his or her qualifications for membership, and how the submitter learned about this call for nominations. The cover letter should also include the statements required below related to Federally Registered Lobbyists and Foreign Firms. If applicable, the application should include a sponsor letter on the non-Federal governmental entity letterhead containing a brief description of the manner in which international trade affects the entity and why the applicant should be considered for membership. Forms may also be requested by sending an email to ATACs@usda.gov, or by phone at (202) 868-7059.

Federally Registered Lobbyists: All nominees must provide a statement confirming their lobbyist status.

Pursuant to the Revised Guidance on the Appointment of Lobbyists to Federal Advisory Committees, Boards and Commissions, published by the Office of Management and Budget (OMB) on August 13, 2014, federally-registered lobbyists are no longer prohibited from serving on the advisory committees in a representative capacity. OMB's revised guidance clarifies that the eligibility restriction does not apply to advisory committee members who are specifically appointed to represent the interests of a nongovernmental entity, a recognizable group of persons or nongovernmental entities (an industry sector, labor unions, environmental groups, etc.), or state or local governments. The lobbyist prohibition continues to apply to persons serving on advisory committees in their individual capacity (e.g., SGEs).

Foreign Firms: If the nominee is to represent an entity or corporation with ten percent or greater non-U.S. ownership, the nominee must state the extent to which the organization or interest to be represented by the nominee is owned by non-U.S. citizens, organizations, or interests and demonstrate at the time of nomination that this ownership interest does not constitute control and will not adversely affect his or her ability to serve as an advisor on the U.S. agriculture advisory committee for trade.

Dated: June 5, 2023.
Cikena Reid,
USDA Committee Management Officer.

[FR Doc. 2023-12313 Filed 6-6-23; 11:15 am]

BILLING CODE 3410-10-P